DEPARTMENT OF COMMERCE

Foreign-Trade Zones Board

[Order No. 1502]

Grant of Authority, Establishment of a Foreign-Trade Zone, Counties of Lehigh and Northampton, Pennsylvania

Pursuant to its authority under the Foreign-Trade Zones Act of June 18, 1934, as amended (19 U.S.C. 81a-81u), the Foreign-Trade Zones Board adopts the following Order:

WHEREAS, the Foreign-Trade Zones Act provides for ”. . . the establishment . . . of foreign-trade zones in ports of entry of the United States, to expedite and encourage foreign commerce, and for other purposes,” and authorizes the Foreign-Trade Zones Board to grant to qualified corporations the privilege of establishing foreign-trade zones in or adjacent to U.S. Customs and Border Protection ports of entry;

WHEREAS, the Lehigh Valley Economic Development Corporation (the Grantee), a Pennsylvania non-profit agency, has made application to the Board (FTZ Docket 30-2006, filed 7/18/06), requesting the establishment of a foreign-trade zone at sites in Lehigh and Northampton Counties, Pennsylvania, adjacent to the Lehigh Valley Customs and Border Protection port of entry;

WHEREAS, notice inviting public comment has been given in the Federal Register (71 FR 42800, 7/28/06), and the application was amended on September 25, 2006 (71 FR 59072, 10/6/06);

WHEREAS, the Board adopts the findings and recommendations of the examiner's report, and finds that the requirements of the FTZ Act and the Board's regulations are satisfied, and that approval of the application, as amended, is in the public interest;

NOW, THEREFORE, the Board hereby grants to the Grantee the privilege of establishing a foreign-trade zone, designated on the records of the Board as Foreign-Trade Zone No. 272, at the sites described in the application, as amended, and subject to the Act and the Board's regulations, including Section 400.28.

Signed at Washington, DC, this 5th day of April 2007.

FOREIGN-TRADE ZONES BOARD
Carlos M. Gutierrez,
Secretary of Commerce, Chairman and Executive Officer.
Attest:
Andrew McGilvray,
Executive Secretary.

[FR Doc. E7-7198 Filed 4-13-07; 8:45 am]

BILLING CODE 3510-DS-S